DEPARTMENT OF AGRICULTURE

Animal and Plant Health Inspection Service

[Docket No. APHIS-2014-0014]

Notice of Availability of a Pest Risk Analysis for the Interstate Movement of Allium spp. Leaves From Hawaii Into the Continental United States

AGENCY: Animal and Plant Health Inspection Service, USDA.

ACTION: Notice.

SUMMARY: We are advising the public that we have prepared a pest risk assessment and risk management document regarding the risks associated with the interstate movement of Allium spp. leaves from Hawaii into the continental United States. Based on these documents, we have determined that the application of one or more designated phytosanitary measures will be sufficient to mitigate the risks of introducing or disseminating plant pests or noxious weeds via the movement of Allium spp. leaves from Hawaii. We are making these documents available to the public for review and comment.

DATES: We will consider all comments that we receive on or before July 1, 2014.

ADDRESSES: You may submit comments by either of the following methods:

• Federal eRulemaking Portal: Go to http://www.regulations.gov/#!docketDetail;D=APHIS-2014-0014.

• Postal Mail/Commercial Delivery: Send your comment to Docket No. APHIS-2014-0014, Regulatory Analysis and Development, PPD, APHIS, Station 3A-03.8, 4700 River Road Unit 118, Riverdale, MD 20737-1238.

Supporting documents and any comments we receive on this docket may be viewed at http://www.regulations.gov/#!docketDetail;D=APHIS-2014-0014 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. David Lamb, Senior Regulatory Policy Specialist, PPQ, APHIS, 4700 River Road Unit 133, Riverdale, MD 20737-1231; (301) 851-2103.

SUPPLEMENTARY INFORMATION: Under the regulations in “Subpart—Regulated Articles From Hawaii and the Territories” (7 CFR 318.13-1 through 318.13-26, referred to below as the regulations), the Animal and Plant Health Inspection Service (APHIS) of the U.S. Department of Agriculture prohibits or restricts the interstate movement of fruits and vegetables from Hawaii, Puerto Rico, the U.S. Virgin Islands, Guam, and the Commonwealth of the Northern Mariana Islands to the continental United States to prevent the spread of plant pests and noxious weeds that occur in Hawaii and the territories.

Section 318.13-4 contains a performance-based process for approving the interstate movement of certain fruits and vegetables from Hawaii and the U.S. territories that, based on the findings of a pest risk analysis, can be safely moved subject to one or more of the six phytosanitary measures listed in § 318.13-4(b). These measures are:

• The fruits and vegetables are inspected in the State of origin or in the first State of arrival.

• The fruits and vegetables originated from a pest-free area in the State of origin and the grower from which the fruit or vegetable originated has entered into a compliance agreement with the Administrator.

• The fruits and vegetables are treated in accordance with 7 CFR part 305 and the treatment is certified by an inspector.

• The fruits and vegetables are inspected and certified in the State of origin by an inspector and have been found free of one or more specific quarantine pests identified by risk analysis as likely to follow the pathway.

• The fruits and vegetables are moved as commercial consignments only.

• The fruits and vegetables may be distributed only within a defined area and the boxes or containers in which the fruit or vegetables are distributed must be marked to indicate the applicable distribution restrictions.

APHIS received a request from the Hawaii Department of Agriculture to allow the interstate movement of Allium spp. leaves to the continental United States. Hawaii has indicated a specific interest in production and shipment of French chives (Allium schoenoprasum L.). Allium spp. leaves are currently prohibited from interstate movement from Hawaii to the continental United States.

We have prepared a pest risk assessment (PRA) to identify pests of quarantine significance that could follow the pathway of interstate movement into the continental United States and, based on that PRA, a risk management document (RMD) to identify phytosanitary measures that could be applied to the commodity to mitigate the pest risk. We have concluded that Allium spp. leaves can be safely moved from Hawaii to the continental United States using one or more of the six designated phytosanitary measures listed in § 318.13-4(b).

Therefore, in accordance with § 318.13-4(c), we are announcing the availability of our PRA and RMD for public review and comment. The documents may be viewed on the Regulations.gov Web site or in our reading room (see ADDRESSES above for a link to Regulations.gov and information on the location and hours of the reading room). You may request paper copies of the PRA and RMD by calling or writing to the person listed under FOR FURTHER INFORMATION CONTACT. Please refer to the subject of the analysis when requesting copies.

After reviewing any comments we receive, we will announce our decision regarding the interstate movement of Allium spp. leaves from Hawaii in a subsequent notice. If the overall conclusions of our analysis and the Administrator's determination of risk remain unchanged following our consideration of the comments, then we will authorize the interstate movement of Allium spp. leaves from Hawaii into the continental United States subject to the requirements specified in the RMD.

Authority: 7 U.S.C. 7701-7772 and 7781-7786; 7 CFR 2.22, 2.80, and 371.3.

Done in Washington, DC, this 28th day of April 2014.
Kevin Shea,
Administrator, Animal and Plant Health Inspection Service.

[FR Doc. 2014-10034 Filed 5-1-14; 8:45 am]

BILLING CODE 3410-34-P